DEPARTMENT OF EDUCATION

Indian Education Professional Development Grant Program

AGENCY: Office of Indian Education, Department of Education.

ACTION: Notice of proposed priorities for fiscal year (FY) 2000 and subsequent fiscal years.

SUMMARY: The Secretary announces proposed funding priorities under the Indian Education Professional Development Grant program. The Secretary may use these priorities for competitions in FY 2000 and in subsequent fiscal years. The Secretary takes this action to support training opportunities to increase the number of Indian teachers, education administrators and personnel in other fields.

DATES: We must receive your comments on or before April 6, 2000.

ADDRESSES: All comments concerning these proposed priorities should be addressed to Cathie Martin, Office of Indian Education, U.S. Department of Education, 400 Maryland Avenue, SW, FOB-6 Room 3W111, Washington, D.C. 20202-6335. Comments may be sent through the Internet: _Cathie—Martin@ed.gov. You must include the term “Professional Development Program” in the subject line of your electronic message.

FOR FURTHER INFORMATION CONTACT: Cathie Martin. Telephone: (202) 260-1683. If you use a telecommunications device for the deaf (TDD) you may call the Federal Information Relay Service (FIRS) at 1-800-877-8339.

Individuals with disabilities may obtain this document in an alternative format (e.g., Braille, large print, audiotape, or computer diskette) on request to the contact person listed in the preceding paragraph.

This notice does not solicit applications. A notice inviting applications under this competition will be published in the Federal Register concurrent with or following the publication of final priorities.

Invitation To Comment

We invite you to submit comments regarding these proposed priorities.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these proposed priority, in Room 3W115, 400 Maryland Avenue, SW, Washington, DC between the hours of 9 a.m. and 5:30 p.m., Eastern time, Monday through Friday of each week except Federal holidays.

Assistance to Individuals With Disabilities in Reviewing the Rulemaking Record

On request, we will supply an appropriate aid, such as a reader or printer magnifier, to an individual with a disability who needs assistance to review the comments or other documents in the public rulemaking record for these proposed priorities. If you want to schedule an appointment for this type of aid, you may call (202) 205-8113 or (202) 260-9895. If you use a TDD, you may call the Federal Information Relay Service (FIRS) at 1-800-877-8330.

SUPPLEMENTARY INFORMATION:

General

The Secretary has authority to establish priorities, including absolute preferences, under section 75.105(c)(3) of the Education Department General Administrative Regulations (EDGAR). This notice contains proposed absolute priorities for the Professional Development program authorized by Section 9122 of Subpart 2 of Part A, Title IX of the Elementary and Secondary Education Act (ESEA) of 1965; 20 U.S.C. 7832.

The Professional Development program is a competitive grant program that supports activities to increase the number of qualified Indian individuals in professions that serve Indian people. Individuals who receive training under the Professional Development program are required to perform work related to the training received and that benefits Indian people, or are required to repay all or a prorated part of the assistance received. The requirements for the payback provision (required by Section 9122(h) of ESEA; 20 U.S.C. 7832(h)) are governed by 34 CFR 263. For the purposes of this program, the term “Indian” includes both American Indians and Alaska Natives as defined in 34 CFR 263.3(b) and Sec. 9161(4) of ESEA (20 U.S.C. 7881(4)).

One component of the Professional Development program supports training for qualified Indian individuals to: (1) Become teachers, administrators, teacher aides, social workers, and ancillary educational personnel; and (2) improve the skills of Indian individuals serving in these capacities. The second component of the program supports training of qualified Indian individuals in fields other than education that result in a degree at the graduate level. The proposed priorities support these training efforts by focusing all or a portion of available funds for new awards on projects that train Indians to become teachers and administrators, to improve the skills of individuals serving in those capacities, and to train personnel in fields other than education.

The Secretary also proposes procedures for implementation of the statutory requirement to give a preference for awards under the Professional Development program to: (1) programs that provide training to Indian individuals (Section 9122(e)(2); 20 U.S.C. 7832(e)(2)) and (2) eligible Indian tribes, Indian organizations and Indian institutions of higher education (Section 9153 of ESEA; 20 U.S.C. 7873).

The Secretary will announce the final priorities for this program in a notice in the Federal Register. The final priorities will be determined on the basis of responses to this notice and other considerations by the Department. On an annual basis the Secretary may select, from the final priorities, the absolute priorities that will apply for that fiscal year and the amount of available program funds. Funding of a particular project depends on the availability of funds, the requirements of the final priorities selected, and the quality of the applications received. The publication of these proposed priorities does not preclude the Secretary from proposing additional priorities, nor does it limit the Secretary to funding only one or more of these priorities, subject to meeting applicable rulemaking requirements.

Eligible Applicants

(1) Institutions of higher education, including Indian institutions of higher education;

(2) State or local educational agencies in consortium with institutions of higher education; and

(3) Indian tribes or Indian organizations in consortium with institutions of higher education.

Applications submitted by a consortium under categories (2) and (3) must meet the requirements of 34 CFR 75.127 through 75.129 of EDGAR in order to be an eligible applicant.

Absolute Priority

Under section 34 CFR 75.105 of EDGAR, the Secretary proposes to give an absolute preference to applications that meet one of the priorities selected for that fiscal year. The Secretary proposes to reserve all or a portion of the funds available for new awards under the Professional Development program to fund only those applications that meet one of these absolute priorities:

(1) Pre-Service Training for Teachers—

(a) Provide support and training to a minimum of 25 Indian individuals to complete a pre-service education program leading to a bachelor degree in education that allows participants to meet the requirements for State certification or licensure as a teacher within a two-year period; and

(b) Provide graduates of the program with one-year of induction services while they are working in schools with predominately Indian student populations.

(2) In-Service Training for Teachers—

(a) Provide professional development activities to retrain a minimum of 25 existing teachers of Indian students that allow participants to meet State certification or licensure requirements to increase the number of teachers certified or licensed in:

(i) Subject area(s) being taught;

(ii) High-need areas where a shortage of qualified teachers exist;

(iii) Subject content area specializations such as reading or math; or

(iv) specializations in teaching culturally and linguistically unique Indian student populations; and

(b) Provide graduates of the program with one-year of induction services while they are working in schools with predominately Indian student populations.

(3) Pre-Service and In-Service Training for Teachers—

(a) Provide support and training to a minimum of 25 Indian individuals to complete a pre-service education program leading to a bachelor degree in education that allows participants to meet the requirements for State certification or licensure as a teacher within a two-year period;

(b) Provide professional development activities to retrain a minimum of 25 existing teachers of Indian students that allow participants to meet State certification or licensure requirements to increase the number of teachers certified or licensed in:

(i) Subject area or areas being taught;

(ii) High-need areas where a shortage of qualified teachers exist;

(iii) Subject content area specializations such as reading or math; or

(iv) Specializations in teaching culturally and linguistically unique Indian student populations; and

(c) Provide graduates of the program with one-year of induction services while they are working in schools with predominately Indian student populations.

(4) Pre-Service Administrator Training—

(a) Provide support and training to a minimum of 25 Indian individuals to complete a master degree in education administration that allows participants to meet the requirements for State certification or licensure as an education administrator within a two-year period, and

(b) Provide graduates of the program with one-year of induction services while they are working in schools with predominately Indian student populations.

(5) In-Service Administrator Training—

(a) Provide professional development activities to a minimum of 25 existing administrators that enhance their skills and knowledge in more than one of the following areas;

(i) Standards and assessments;

(ii) Integrating reliable, research-based teaching methods and technology into the curriculum;

(iii) Mentoring, coaching and evaluating the performance of teachers;

(iv) Site-based management;

(v) Reform efforts to improve teacher quality; and

(b) Provide graduates of the program with one-year of induction services while they are working in schools with predominately Indian student populations.

(6) Pre-Service and In-Service Training for Administrators—

(a) Provide support and training to a minimum of 25 Indian individuals to complete a master degree in education administration that allows participants to meet State certification or licensure as an education administrator within a two-year period;

(b) Provide professional development activities to a minimum of 25 existing education administrators that enhance their skills and knowledge in more than one of the following areas—

(i) Standards and assessments;

(ii) Integrating reliable, research-based teaching methods and technology into the curriculum;

(iii) Mentoring, coaching and evaluating the performance of teachers;

(iv) Site-based management;

(v) Reform efforts to improve teacher quality; and

(c) Provide graduates of the program one-year of induction services while they are working in schools with predominately Indian student populations.

(7) Training in Fields Other Than Education—

(a) Provide support and training to a minimum of 25 Indian individuals to complete a master or doctoral degree in a field other than education, or a related field, within a two-year period, and

(b) Provide graduates of the program with one-year of induction services while they are employed in positions relating to the training received and that benefits Indians.

Applications meeting one of the absolute priorities may offer professional development activities that include, but are not limited to, continuing programs, symposia, workshops, conferences, and direct financial support.

Induction services to be provided must include the following activities, at a minimum:

(1) Mentoring, coaching and consultation services for the participant;

(2) Participant access to research materials and information on teaching and learning or, for non-education fields of study, subject matter related to the participant's field of study;

(3) Periodic assessment of and feedback sessions on participant performance in coordination with the participant's supervisor; and

(4) Periodic meetings or seminars for participants to enhance collaboration, feedback and peer networking and support.

Applications submitted by a consortium must meet the requirements of 34 CFR 75.127 through 75.129 of EDGAR in order to be an eligible applicant. The specific requirements for the group agreement are found in 34 CFR 75.128(b).

The Secretary may select more than one absolute priority for this program in any given fiscal year.

Competitive Preference

The Secretary also proposes procedures for implementing the statutory requirement to give a preference to eligible Indian tribes, Indian organizations and Indian institutions of higher education for grants awarded under the Professional Development program (Section 9153 of ESEA; 20 U.S.C. 7873).

Under 34 CFR 75.105(c)(2)(i) of EDGAR and Sections 9122 and 9153 of ESEA (20 U.S.C. 7832 and 7873), the Secretary gives preference to applications that meet the following competitive priorities. The total number of points the Secretary proposes to award to an application that meets a competitive priority is indicated in parentheses next to the title of the priority. These points are in addition to any points the application earns under the selection criteria for the program.

Competitive Priority 1—Preference for Training Indian Individuals (5 Points)

Background

Grants under this program may be used to provide support and training for Indian individuals to increase the number of qualified Indian individuals in professions that serve Indian people. Activities may include, but are not limited to, continuing programs, symposia, workshops, conferences, and direct financial support.

Grants for training educational personnel may be for pre-service or in-service training. For individuals who are being trained to enter any field other than education, the training received must be in a program resulting in a graduate degree. In awarding grants under this program, the Secretary is required to give preference to applications describing programs that train Indian individuals.

Priority

The Secretary would award 5 points to applications submitted under the Professional Development program that include only Indian individuals as training participants.

Authority: Section 9122(e)(2) of ESEA; 20 U.S.C. 7832(e)(2).

Competitive Priority 2—Preference for Indian Applicants (10 Points)

Background

An eligible entity for this program includes an institution of higher education, including an Indian institution of higher education; a State or local educational agency, in consortium with an institution of higher education; an Indian tribe or organization, in consortium with an institution of higher education. In making grants under this program, the Secretary gives preference to applications submitted by Indian tribes, Indian organizations, and Indian institutions of higher education, including a consortium of any of these entities with other eligible entities.

Priority

The Secretary would award 10 points to applications submitted by Indian tribes, Indian organizations, and Indian institutions of higher education that are eligible to participate in the Professional Development program. A consortium application of eligible entities that meets the requirements of 34 CFR 75.127-.129 of EDGAR and includes an Indian tribe, Indian organization or Indian institution of higher education would be considered eligible to receive the 10 priority points.

Authority: Section 9153 of ESEA; 20 U.S.C. 7873.

Intergovernmental Review

These programs are subject to the requirements of Executive Order 12372 and the regulations in 34 CFR Part 79. However, Part 79 does not apply to assistance to federally recognized Indian tribes. The objective of the Executive Order is to foster an intergovernmental partnership and a strengthened federalism by relying on processes developed by State and local governments for coordination and review of proposed Federal financial assistance. In accordance with the Order, this document is intended to provide early notification of the Department's specific plans and actions for this program.

Invitation To Comment

Interested persons are invited to submit comments and recommendations regarding these proposed priorities.

All comments submitted in response to this notice will be available for public inspection, during and after the comment period, in Room 3W115, 400 Maryland Avenue, SW, Washington, DC, between the hours of 9 a.m. and 5:30 p.m., Eastern time, Monday through Friday of each week except Federal holidays.

Program Authority: Section 9122 of ESEA; U.S.C. 7832.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC area at (202) 512-1530.

(Catalog of Federal Domestic Assistance Number: 84.299 Indian Education—Special Programs)
Michael Cohen,
Assistant Secretary for Elementary and Secondary Education.

[FR Doc. 00-5496 Filed 3-6-00; 8:45 am]

BILLING CODE 4000-01-P